DEPARTMENT OF TRANSPORTATION

Federal Aviation Administration

14 CFR Part 39

[Docket No. 2002-CE-18-AD]

RIN 2120-AA64

Airworthiness Directives; Cessna Aircraft Company Models 441 and F406 Airplanes

AGENCY: Federal Aviation Administration, DOT.

ACTION: Notice of proposed rulemaking (NPRM).

SUMMARY: This document proposes to supersede Airworthiness Directive (AD) 2002-09-13, which currently requires a one-time inspection of the fuel boost pump wiring inside and outside the boost pump reservoir and repair or replacement of the wiring as necessary on certain Cessna Aircraft Company (Cessna) Model 441 airplanes. AD 2002-09-13 resulted from several reports of chafing and/or arcing of the fuel boost pump wiring inside and outside the fuel pump reservoir. This proposed AD would retain the actions required in AD 2002-09-13, make the one-time inspection repetitive, require the inspection and possible replacement of the wire harness, lead wires and fuel boost pump on Model F406 airplanes, and require eventual installation of an improved design wire harness and fuel boost pump as terminating action for the repetitive inspections. The actions specified by this proposed AD are intended to detect, correct, and prevent chafing and/or arcing fuel boost pump wiring, which could result in arcing within the wing fuel storage system. Such a condition could lead to ignition of explosive vapor within the fuel storage system.

DATES: The Federal Aviation Administration (FAA) must receive any comments on this proposed rule on or before December 30, 2002.

ADDRESSES: Submit comments to FAA, Central Region, Office of the Regional Counsel, Attention: Rules Docket No. 2002-CE-18-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-18-AD” in the subject line. If you send comments electronically as attached electronic files, the files must be formatted in Microsoft Word 97 for Windows or ASCII text.

You may get service information that applies to this proposed AD from Cessna Aircraft Company, Product Support, P.O. Box 7706, Wichita, Kansas 67277; telephone: (316) 517-5800; facsimile: (316) 942-9006. You may also view this information at the Rules Docket at the address above.

FOR FURTHER INFORMATION CONTACT: Robert Adamson, Aerospace Engineer, FAA, Wichita Aircraft Certification Office, 1801 Airport Road, Room 100, Wichita, Kansas 67209; telephone: 316-946-4145; facsimile: 316-946-4407.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2002-CE-18-AD.” We will date stamp and mail the postcard back to you.

Discussion

Has FAA Taken Any Action to This Point?

Reports of chafing and/or arcing of the fuel boost pump wiring inside the fuel pump reservoir that supplies fuel to each engine on Cessna Model 441 airplanes caused us to issue AD 2002-09-13, Amendment 39-12746 (67 FR 31117, May 9, 2002). AD 2002-09-13 requires you to: (1) Do a one-time inspection of the electrical wiring going to the fuel boost pump reservoir and the boost pump wiring inside the reservoir for chafing or damage, and (2) repair or replace the wiring as necessary.

These actions are required in accordance with Cessna Conquest Service Bulletin No.: CQB02-1R1, Revision 1, dated April 22, 2002.

What Has Happened Since AD 2002-09-13 To Initiate This Action?

Further analysis of this situation reveals that:

—The actions required by AD 2002-09-13 should also apply to Model F406 airplanes;

—The inspection should be repetitive; and

—Improved design wire harnesses and fuel boost pumps should eventually be installed as terminating action for the repetitive inspections.

Has the Manufacturer Issued Service Information That Pertains to the Model F406 Airplanes?

Cessna has issued Caravan Service Bulletin No.: CAB02-8, dated June 3, 2002, Fuel Boost Pump Wiring Harness Inspection/Modification. This service bulletin affects the Model F406 airplane, a model of similar type design as the Model 441 airplane.

Cessna has also replaced Conquest Service Bulletin No.: CQB02-1, Revision 1, with Conquest Service Bulletin No.: CQB02-1, Revision 2, dated October 7, 2002.

Service Bulletins Numbers: CAB02-8 and CQB02-1, Revision 2, also specify and include procedures for installing improved design wire harnesses and fuel boost pumps (as a terminating action for the repetitive inspections).

The FAA's Determination and an Explanation of the Provisions of This Proposed AD

What Has FAA Decided?

After examining the circumstances and reviewing all available information related to the incidents described above, we have determined that:

—The unsafe condition referenced in this document exists or could develop on other Cessna Models 441 and F406 airplanes of the same type design;

—The actions of AD 2002-09-13 should be repetitive and the improved design parts eventually incorporated; and

—AD action should be taken in order to correct this unsafe condition.

What Would This Proposed AD Require?

This proposed AD would supersede AD 2002-09-13 with a new AD that would require repetitive inspections of the Models 441 and F406 airplanes fuel boost pump wiring inside and outside the boost pump reservoir for chafing or damage and replacement of the wiring and (for the Model F406) fuel boost pump, as necessary, and require eventual installation of an improved design wire harness and fuel boost pump as terminating action for the repetitive inspections.

How Would This Action Relate to the FAA's Aging Commuter-Class Aircraft Policy?

The FAA's aging commuter aircraft policy briefly states that when a modification exists that could eliminate or reduce the number of required critical inspections, the modification should be incorporated. This policy is based on the FAA's determination that reliance on critical repetitive inspections on airplanes utilized in commuter service carries an unnecessary safety risk when a design change exists that could eliminate or, in certain instances, reduce the number of those critical inspections. In determining what inspections are critical, the FAA considers (1) the safety consequences of the airplane if the known problem is not detected by the inspection; (2) the reliability of the inspection such as the probability of not detecting the known problem; (3) whether the inspection area is difficult to access; and (4) the possibility of damage to an adjacent structure as a result of the problem.

The alternative to replacing the fuel boost pump wiring and fuel boost pump would be to repetitively inspect this area for the life of the airplane. Therefore, FAA has determined that the improved design wire harness and fuel boost pump should be incorporated in all affected airplanes.

Cost Impact

How Many Airplanes Would This Proposed AD Impact?

We estimate that this proposed AD affects 370 airplanes in the U.S. registry.

What Would Be the Cost Impact of This Proposed AD on Owners/Operators of the Affected Airplanes?

We estimate the following costs to accomplish the proposed inspection:

Labor cost | Parts cost | Total cost per airplane | Total cost on U.S. operators
8 workhours x $60 per hour = $480. | None | $480 | $480 x 370 = $177,600

For Model 441 airplanes, we estimate the following costs to accomplish the proposed replacements:

Labor cost | Parts cost | Total cost per airplane
8 workhours x $60 per hour = $480 | $13,101 | $480 + $13,101 = $13,581

For Model F406 airplanes, we estimate the following costs to accomplish the proposed replacements:

Labor cost | Parts cost | Total cost per airplane
8 workhours x $60 per hour = $480 | $7,558. | $480 + $7,558 = $8,038

Compliance Time of This Proposed AD

Why Is the Compliance Time of This Proposed AD Presented in Both Hours Time-In-Service (TIS) and Calendar Time?

The initial compliance time of this proposed AD is presented in both hours TIS (25 hours) and calendar time (60 days). Because the affected airplanes are used in general aviation operations, some operators may accumulate 25 hours TIS on the airplane in a week while others may not accumulate 25 hours TIS in a year. Although the condition specified by this proposed AD is only unsafe during airplane operation, the condition could exist on an airplane with 500 hours TIS or 2,000 hours TIS. We have determined that the dual compliance time:

—Gives all owners/operators of the affected airplanes adequate time to schedule and do the actions in this proposed AD; and

—ensures that the unsafe condition referenced in this proposed AD will be corrected within a reasonable time period without inadvertently grounding any of the affected airplanes.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2002-09-13, Amendment 39-12746 (67 FR 31117, May 9, 2002), and by adding a new AD to read as follows:

Cessna Aircraft Company: Docket No. 2002-CE-18-AD; Supersedes AD 2002-09-13, Amendment 39-12746.

(a) What airplanes are affected by this AD? This AD applies to the following airplane models and serial numbers that are certificated in any category:

Model | Serial Nos.
441 | 0001 through 0362 and 698
F406 | 0001 through 0089

(b) Who must comply with this AD? Anyone who wishes to operate any of the airplanes identified in paragraph (a) of this AD must comply with this AD.

(c) What problem does this AD address? The actions specified by this AD are intended to detect, correct, and prevent chafing and/or arcing fuel boost pump wiring, which could result in arcing within the wing fuel system. Such a condition could lead to ignition of explosive vapor within the fuel storage system.

(d) What actions must I accomplish to address this problem? To address this problem, you must accomplish the following:

Actions | Compliance | Procedures
(1) For Model 441 airplanes: Inspect the part number (P/N) 5718106-1 wire harness and fuel boost pump lead wires for chafing or damage | Initially at whichever occurs first, unless already accomplished: Within the next 25 hours time-in-service (TIS) or 60 days after May 31, 2002 (the effective date of AD 2002-09-13); and repetitively thereafter at intervals not to exceed 200 hours TIS | In accordance with Cessna Conquest Service Bulletin No.: CQB02-1, Revision 2, dated October 7, 2002.
(2) For Model F406 airplanes: Inspect the P/N 5718106-4 wire harness and fuel boost pump lead wires for chafing or damage | Initially at whichever occurs first, unless already accomplished: Within the next 25 hours TIS after the effective date of this AD or 60 days after the effective date of this AD; and repetitively thereafter at intervals not to exceed 200 hours TIS | In accordance with Cessna Caravan Service Bulletin No.: CAB02-8, dated June 3, 2002.
(3) If chafing or damage is found during any inspection required in paragraph (d)(1) or (d)(2) of this AD: (i) For the Model 441 airplanes, replace the wire harnesses, repair fuel boost pump lead wires, or replace the fuel boost pump, as applicable. (ii) For the Model F406 airplanes, repair or replace the wire harnesses or lead wires, or fuel boost pump, as applicable | Before further flight after any inspection required in paragraphs (d)(1) and (d)(2) of this AD in which damage is found. If improved design wire harnesses and fuel boost pumps are not installed, continue to inspect as specified in paragraph (d)(1) or (d)(2) of this AD until these improved design parts are installed | For the Model 441 airplanes: In accordance with Cessna Conquest Service Bulletin No.: CQB02-1, Revision 2, dated October 7, 2002. For the Model F406 airplanes: In accordance with Cessna Caravan Service Bulletin No.: CAB02-8, dated June 3, 2002.
(4) Perform the following installations: (i) For the Model 441 airplanes: Install improved design fuel boost pump (P/N 1C12-17 or FAA-approved equivalent P/N) and improved design wire harness (P/N 5718106-6 or FAA-approved equivalent P/N). Installing both improved part numbers in each wing tank terminates the repetitive inspection requirements of paragraph (d)(1) of this AD. (ii) For the Model F406 airplanes: Install improved design fuel boost pump (P/N 1C12-17 or FAA-approved equivalent P/N) and improved design wire harness (P/N 406 28 01 or FAA-approved equivalent P/N). Installing both improved part numbers in each wing tank terminates the repetitive inspection requirements of paragraph (d)(2) of this AD | Within the next 400 hours TIS after the effective date of this AD, unless already accomplished | For the Model 441 airplanes: In accordance with Cessna Conquest Service Bulletin No.: CQB02-1, Revision 2, dated October 7, 2002. For the Model F406 airplanes: In accordance with Cessna Caravan Service Bulletin No.: CAB02-8, dated June 3, 2002.
(5) Only install improved design wire harnesses and fuel boost pumps as specified in paragraphs (d)(4)(i) and (d)(4)(ii) of this AD | As of the effective date of this AD | Not applicable.

(e) Can I comply with this AD in any other way?

(1) You may use an alternative method of compliance or adjust the compliance time if:

(i) Your alternative method of compliance provides an equivalent level of safety; and

(ii) The Manager, Wichita Aircraft Certification Office (ACO), approves your alternative. Submit your request through an FAA Principal Maintenance Inspector, who may add comments and then send it to the Manager, Wichita ACO.

(2) Alternative methods of compliance approved in accordance with AD 2002-09-13, which is superseded by this AD, are approved as alternative methods of compliance for all inspection requirements of this AD. Regardless, you still must comply with the replacement requirements of this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Robert Adamson, Aerospace Engineer, FAA, Wichita Aircraft Certification Office, 1801 Airport Road, Room 100, Wichita, Kansas 67209; telephone: 316-946-4145; facsimile: 316-946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Cessna Aircraft Company, Product Support, P.O. Box 7706, Wichita, Kansas 67277; telephone: (316) 517-5800; facsimile: (316) 942-9006. You may view these documents at FAA, Central Region, Office of the Regional Counsel, 901 Locust, Room 506, Kansas City, Missouri 64106.

(i) Does this AD action affect any existing AD actions? This amendment supersedes AD 2002-09-13, Amendment 39-12746.

Issued in Kansas City, Missouri, on October 15, 2002.
Dorenda D. Baker,
Acting Manager, Small Airplane Directorate, Aircraft Certification Service.

[FR Doc. 02-26662 Filed 10-18-02; 8:45 am]

BILLING CODE 4910-13-P